DEPARTMENT OF ENERGY

Federal Energy Regulatory Commission

[Docket No. CP06-452-000]

Trunkline Gas Company, LLC; Notice of Availability of the Environmental Assessment for the Proposed Field Zone Expansion Project

March 5, 2007.

The staff of the Federal Energy Regulatory Commission (FERC or Commission) has prepared an environmental assessment (EA) on the natural gas pipeline facilities proposed to be constructed by Trunkline Gas Company, LLC (Trunkline) in the above-referenced docket.

The EA was prepared to satisfy the requirements of the National Environmental Policy Act. The staff concludes that approval of the proposed project, with appropriate mitigating measures, would not constitute a major Federal action significantly affecting the quality of the human environment.

The EA assesses the potential environmental effects of:

Texas and Louisiana

• Installation of a 45-mile-long 36-inch-diameter NTX Line-200 Loop natural gas pipeline and associated facilities from the Gate Valve 43 in Jasper County, Texas to the Longville Meter Station in Beauregard Parish, Louisiana, running through Jasper and Newton Counties, Texas and Beauregard Parish, Louisiana.

Texas

• Installation of three meter stations in Hardin County, Jasper Counties, and Liberty County, Texas; and

• Abandonment a 6,350-horsepower (Hp) gas-turbine centrifugal compressor unit replaced with a new 10,350-Hp electric motor-driven compressor unit and for a total of 10,350-Hp of compression at the Kountze Compressor Station in Hardin County, Texas.

Louisiana

• Installation of a 13.5-mile-long 36-inch-diameter Henry Hub Lateral natural gas pipeline and associated facilities along existing pipeline right-of-way (ROW) in Vermilion Parish, Louisiana;

• Installation of two bi-directional meter stations in Vermilion Parish, Louisiana;

• Relocation of two 3,000-Hp compressor units from the Centerville Compressor Station to the Kaplan Compressor Station in Vermilion Parish, Louisiana; and

• Installation of a 10,350-Hp compressor unit at the Longview Compressor Station in Beauregard Parish, Louisiana.

Illinois

• Removal of a 3,000-Hp compressor unit at the Joppa Compressor Station in Massac County, Illinois; modify it and uprate to 5,100-Hp, and then re-install it at the Kaplan Compressor Station in Louisiana.

The purpose of the proposed project is to expand the capacity of Trunkline's natural gas pipeline facilities to allow for the flow of natural gas from expanding gas production in Texas to delivery points in Louisiana.

The EA has been placed in the public files of the FERC. A limited number of copies of the EA are available for distribution and public inspection at: Federal Energy Regulatory Commission, Public Reference and Files Maintenance Branch, 888 First Street, NE., Room 2A, Washington, DC 20426, (202) 502-8371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to: Secretary, Federal Energy Regulatory Commission, 888 First St., NE., Room 1A, Washington, DC 20426;

• Label one copy of the comments for the attention of the Gas Branch 2, PJ11.2.

• Reference Docket No. CP06-452-000; and

• Mail your comments so that they would be received in Washington, DC on or before April 4, 2007.

The Commission strongly encourages electronic filing of any comments or interventions or protests to this proceeding. See 18 CFR 385.2001(a)(1)(iii) and the instructions on the Commission's Web site at http://www.ferc.gov under the “e-Filing” link and the link to the User's Guide. Before you can file comments you would need to create a free account which can be created by clicking on “Sign-up.”

Comments would be considered by the Commission but would not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659 or at FERCONLINESUPPORT@FERC.GOV. The eLibrary link on the FERC Internet Web site also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries and direct links to the documents. Go to http://www.ferc.gov, click on “eSubscription” and then click on “Sign-up.”

Philis J. Posey,
Acting Secretary.

[FR Doc. E7-4335 Filed 3-9-07; 8:45 am]

BILLING CODE 6717-01-P